DEPARTMENT OF COMMERCE

International Trade Administration

[A-570-849, A-821-808, A-823-808]

Continuation of Suspended Antidumping Duty Investigations: Cut-to-Length Carbon Steel Plate From the People's Republic of China, the Russian Federation, and Ukraine

AGENCY: Import Administration, International Trade Administration, Department of Commerce.

ACTION: Notice of Continuation of Suspended Antidumping Duty Investigations: Cut-to-Length Carbon Steel Plate from the People's Republic of China, the Russian Federation, and Ukraine.

SUMMARY: The Department of Commerce (“the Department”), pursuant to sections 751(c) and 752 of the Tariff Act of 1930, as amended (“the Act”), determined that termination of the suspended antidumping duty investigations underlying the suspension agreements on cut-to-length carbon steel plate (“CTL plate”) from the People's Republic of China (“PRC”), the Russian Federation (“Russia”), South Africa, and Ukraine (the “Agreements”), would likely lead to continuation or recurrence of dumping. See Cut to Length Carbon Steel Plate From the People's Republic of China, the Russian Federation, and South Africa, 68 FR 1038 (January 8, 2003)(“Final ITA Results—PRC, Russia, and South Africa”) and Final Results of Five-Year Sunset Review of Suspended Antidumping Duty Investigation on Cut-to-Length Carbon Steel Plate from Ukraine, 68 FR 24434 (May 7, 2003)(“Final ITA Results—Ukraine”). On September 4, 2003, the International Trade Commission (“the Commission”), pursuant to section 751(c) of the Act, determined that termination of the Agreements on CTL plate from the PRC, Russia, and Ukraine would likely lead to continuation or recurrence of material injury to an industry in the United States within a reasonably foreseeable time. See Cut-to-Length Carbon Steel Plate from China, Russia, and Ukraine, Investigations Nos. 731-TA-753-756 (Review), 68 FR 52614 (September 4, 2003)(“Final ITC Results”). Therefore, pursuant to 19 CFR 351.218(f)(4) of the Department's regulations, the Department is publishing this notice of the continuation of the Agreements on CTL plate from the PRC, Russia, and Ukraine.

FOR FURTHER INFORMATION CONTACT: Martha V. Douthit or Kelly Parkhill, Office of Policy for Import Administration, International Trade Administration, U.S. Department of Commerce, 14th Street and Constitution Avenue, NW., Washington, DC. 20230; telephone: (202) 482-5050 or (202) 482-3791, respectively.

EFFECTIVE DATE: September 17, 2003.

SUPPLEMENTARY INFORMATION:

Background

On September 3, 2002, the Department initiated, and the Commission instituted, sunset reviews of the Agreements on CTL Plate from the PRC, Russia, South Africa, and Ukraine, pursuant to section 751(c) of the Act. See Initiation of Five-Year (“Sunset”) Reviews, 67 FR 56268 (September 3, 2002), and Carbon Steel Plate from China, Russia, South Africa, and Ukraine, 67 FR 56311 (September 3, 2002). As a result of the sunset reviews, the Department found that termination of the Agreements on CTL Plate from the PRC, Russia, South Africa, and Ukraine, would be likely to lead to continuation or recurrence of dumping. See 68 FR 1038, (January 8, 2003)(“Final ITA Results”).

On September 4, 2003, the Commission determined, pursuant to section 751(c) of the Act, that termination of the Agreements on CTL plate from the PRC, Russia, and Ukraine would be likely to lead to continuation or recurrence of material injury to an industry in the United States within a reasonably foreseeable time (“Final ITC Results”).

Scope of Review

The products covered under the suspension agreements are hot-rolled iron and non-alloy steel universal mill plates (i.e., flat-rolled products rolled on four faces or in a closed box pass, of a width exceeding 150 mm but not exceeding 1,250 mm and of a thickness of not less than 4 mm, without patterns in relief), of rectangular shape, neither clad, plated nor coated with metal, and whether or not painted, varnished, or coated with plastics of other nonmetallic substances; and certain iron and nonalloy steel flat-rolled products, hot-rolled, neither clad, plated, nor coated with metal, and whether or not painted, varnished, or coated with plastics or other nonmetallic substances, 4.75 mm or more in thickness and of a width which exceeds 150 mm and measures at least twice the thickness. Included in this definition are flat-rolled products of nonrectangular cross-section where such cross-section is achieved subsequent to the rolling process (i.e., products which have been “worked after rolling”)—e.g., products which have been bevelled or rounded at the edges. Carbon steel plate is covered by the following statistical reporting numbers of the Harmonized Tariff Schedule of the United States (HTS): 7208.40.3030, 7208.40.3060, 7208.51.0030, 7208.51.0045, 7208.51.0060, 7208.52.0000, 7208.53.0000, 7208.90.0000, 7210.70.3000, 7210.90.9000, 7211.13.0000, 7211.14.0030 (not in coil form), 7211.24.0045, 7211.90.0000, 7212.40.1000, 7212.40.5000, and 7212.50.0000. Excluded from this definition is grade X-70 plate.

Determination

As a result of the determinations by the Department and the Commission that termination of the antidumping duty investigations underlying the Agreements would likely lead to continuation or recurrence of dumping and material injury to an industry in the United States, pursuant to section 751(d)(2) of the Act, the Department hereby orders the continuation of those suspended investigations and of the Agreements on CTL plate from the PRC, Russia, and Ukraine. The effective date of continuation is the date of publication in the Federal Register of this Notice of Continuation.

Pursuant to section 751(c)(2) and 751(c)(6) of the investigations underlying the Act, the Department intends to initiate the next five-year reviews of the Agreements on CTL plate from the Russia and Ukraine not later than August 2008.

The Government of China recently requested that the Agreement on CTL plate from the PRC be terminated. The Department expects to publish a notice addressing this request shortly.

Dated: September 11, 2003.
Joseph A. Spetrini,
Acting Assistant Secretary for Import Administration.

[FR Doc. 03-23759 Filed 9-16-03; 8:45 am]

BILLING CODE 3510-DS-P